DEPARTMENT OF COMMERCE

Foreign-Trade Zones Board

[B-42-2025]

Foreign-Trade Zone 147—Berks County, Pennsylvania; Application for Reorganization (Expansion of Service Area) Under Alternative Site Framework

An application has been submitted to the Foreign-Trade Zones (FTZ) Board by the FTZ Corp of Southern Pennsylvania, grantee of Foreign-Trade Zone 147, requesting authority to reorganize the zone to expand its service area under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the FTZ Board (15 CFR part 400). It was formally docketed on September 4, 2025.

FTZ 147 was approved by the FTZ Board on June 28, 1988 (Board Order 378, 53 FR 26094, July 11, 1988), reorganized under the ASF on April 30, 2013 (Board Order 1897, 78 FR 27953, May 13, 2013), and its service area under the ASF expanded on December 10, 2015 (Board Order 1992, 80 FR 78708, December 17, 2015). The zone currently has a service area that includes Adams, Berks, Cumberland, Dauphin, Franklin, Fulton, Juniata, Lancaster, Lebanon, Perry, and York Counties, Pennsylvania.

The applicant is now requesting authority to expand the service area of the zone to include Schuylkill County, Pennsylvania, as described in the application. If approved, the grantee would be able to serve sites throughout the expanded service area based on companies' needs for FTZ designation. The application indicates that the proposed expanded service area is adjacent to the Harrisburg, Pennsylvania, Customs and Border Protection Port of Entry.

In accordance with the FTZ Board's regulations, Juanita Chen of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is November 7, 2025. Rebuttal comments in response to material submitted during the foregoing period may be submitted through September 23, 2025.

A copy of the application will be available for public inspection in the “Online FTZ Information Section” section of the FTZ Board's website, which is accessible via www.trade.gov/ftz. For further information, contact Juanita Chen at juanita.chen@trade.gov.

Dated: September 4, 2025.
Elizabeth Whiteman,
Executive Secretary.

[FR Doc. 2025-17130 Filed 9-5-25; 8:45 am]

BILLING CODE 3510-DS-P